SMALL BUSINESS ADMINISTRATION

[Declaration of Disaster #3350]

State of Pennsylvania, Amendment #1

In accordance with notices received from the Federal Emergency Management Agency, dated July 6, 2001, the above-numbered Declaration is hereby amended to include Berks County as a disaster area caused by Tropical Storm Allison occurring on June 15, 2001. In addition, the Declaration is also amended to establish the incident period as occurring June 15 through June 23, 2001.

In addition, applications for economic injury loans from small businesses located in Lancaster, Lebanon and Schuylkill Counties in the State of Pennsylvania may be filed until the specified date at the previously designated location. Any counties contiguous to the above named primary counties and not listed here have been previously declared.

All other information remains the same, i.e., the deadline for filing applications for physical damage is August 20, 2001 and for economic injury the deadline is March 20, 2002.

(Catalog of Federal Domestic Assistance Program Nos. 59002 and 59008)

Dated: July 11, 2001.
Herbert L. Mitchell,
Associate Administrator for Disaster Assistance.

[FR Doc. 01-17788 Filed 7-16-01; 8:45 am]

BILLING CODE 8025-01-P